DEPARTMENT OF HOMELAND SECURITY

Coast Guard

[Docket No. USCG-2010-0025]

Revision to Navigation and Inspection Circular 11-93, Change 3 (NVIC 11-93 CH-3), Applicability of Tonnage Measurement Systems to U.S. Flag Vessels

AGENCY: Coast Guard, DHS.

ACTION: Notice of policy revision and request for comments.

SUMMARY: The Coast Guard is developing a revision to NVIC 11-93 CH-3 Applicability of Tonnage Measurement Systems to U.S. Flag Vessels to update the document and improve its usefulness. We are seeking public suggestions for changes to the current revision to NVIC 11-93 CH-3 and comments on the proposed revisions listed in the purpose section of this notice. The public is encouraged to suggest discussion of any international conventions, Federal regulations, or definitions that are not currently addressed. Moreover, the Coast Guard requests that the public provide suggestions on definitions or tables included in the NVIC 11-93 CH-3 to make them clearer or address additional tonnage applicability issues not currently covered by the NVIC 11-93 CH-3.

DATES: Comments and related material must either be submitted to our online docket via http://www.regulations.gov on or before April 5, 2010 or reach the Docket Management Facility by that date.

ADDRESSES: This notice and NVIC 11-93 CH-3 are available in the docket and can be viewed by going to http://www.regulations.gov, inserting USCG-2010-0025 in the “Keyword” box, and then clicking “Search.” You may submit comments identified by docket number USCG-2010-0025 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, call or e-mail Marcus Akins, Marine Safety Center, U.S. Coast Guard; telephone 202-475-3349, e-mail marcus.j.akins@uscg.mil. If you have questions on viewing or submitting material to the docket, call Renee V. Wright, Program Manager, Docket Operations, telephone 202-366-9826.

SUPPLEMENTARY INFORMATION:

Public Participation and Request for Comments

We encourage you to submit comments and related material on revisions to NVIC 11-93 CH-3. All comments received will be posted, without change, to http://www.regulations.gov and will include any personal information you have provided. A copy of the current version of NVIC 11-93 CH-3 may be accessed electronically as part of this docket or at http://www.uscg.mil/hq/cg5/nvic/pdf/1993/CH-3_11-93.pdf.

Submitting comments: If you submit a comment, please include the docket number for this notice (USCG-2010-0025) and provide a reason for each suggestion or recommendation. You may submit your comments and material online, or by fax, mail or hand delivery, but please use only one of these means. We recommend that you include your name and a mailing address, an e-mail address, or a phone number in the body of your document so that we can contact you if we have questions regarding your submission.

To submit your comment online, go to http://www.regulations.gov, click on the “submit a comment” box, which will then become highlighted in blue. In the “Document Type” drop-down menu, select “Notices” and insert “USCG-2010-0025” in the “Keyword” box. Click “Search,” then click on the balloon shape in the “Actions” column. If you submit your comments by mail or hand delivery, submit them in an unbound format, no larger than 8½; by 11 inches, suitable for copying and electronic filing. If you submit them by mail and would like to know that they reached the Facility, please enclose a stamped, self-addressed postcard or envelope. We will consider all comments and material received during the comment period.

Viewing the comments: To view the comments, go to http://www.regulations.gov, click on the “read comments” box, which will then become highlighted in blue. In the “Keyword” box insert “USCG-2010-0025” and click “Search.” Click the “Open Docket Folder” in the “Actions” column. If you do not have access to the internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Background and Purpose

NVIC 11-93, which was last revised in November 2003, provides guidance on tonnages used for documentation purposes and the applicability of a vessel's tonnage assignment under domestic regulatory and international tonnage measurement systems to both domestic regulations and international standards. It also clarifies the applicability of U.S. tonnage measurement systems to U.S. flag vessels based on vessel type, length, service, and vessel keel laid date or date of last substantial alteration. Definitions of frequently used terms, including convention length and deck cargo are provided to ensure consistency for users of NVIC 11-93.

Since its latest revision, multiple regulations and standards with tonnage thresholds, such as Non-Tank Vessel Response Plans, Long Range Identification Tracking System, and the International Convention for the Prevention of Pollution from Ships (MARPOL) Annex VI, have come into force. To reflect these developments and incorporate updates of an administrative nature, the Coast Guard is considering the following changes:

(1) Adding new enclosures discussing the implications of tonnage changes that result from vessel alterations, changes in vessel service, or the addition of temporary deck equipment. This would include discussion of loss of tonnage grandfathering provisions under Article 3(2)(d) of the 1969 International Tonnage Convention and associated interim schemes for the Safety of Life At Sea (SOLAS) and Prevention of Pollution from Ships (MARPOL) international conventions.

(2) Amending Section 2 of Enclosure 1. The Coast Guard would clarify the definition of the terms, “overall length” and “remeasurement,” to provide more detail on their applicability. We would also add the terms, “registered length” and “alternate tonnage.”

(3) Providing additional examples of tonnage application. The Coast Guard will provide examples of tonnage application that are reflective of newly implemented domestic regulations and international standards.

(4) Amending Tables 5, 6, and 7 of Enclosure 1. The Coast Guard will revise language in Tables 5, 6, and 7 to more comprehensively address international tonnage grandfathering provisions, and reflect the correct date that MARPOL came into force.

(5) Incorporating administrative changes such as updating contact information and making editorial corrections.

Request for Comments

The Coast Guard requests your general comments on the revision under consideration. We also seek comments on any or all of the specific proposed revisions for NVIC 11-93 CH-3. We encourage suggestions for specific examples of tonnage grandfathering, remeasurement, or the use of interim schemes. Written comments and responses will be added to the docket number for this notice (USCG-2010-0025). The Coast Guard intends to review and analyze all comments received in order to develop the next revision to NVIC 11-93.

Authority: This notice is issued under authority of 5 U.S.C. 552 and 46 U.S.C. 14301.

Dated: February 19, 2010.
Jeff Lantz,
Director, Commercial Regulations and Standards, U.S. Coast Guard.

[FR Doc. 2010-4645 Filed 3-4-10; 8:45 am]

BILLING CODE 9110-04-P